FEDERAL COMMUNICATIONS COMMISSION

Public Information Collection(s) Requirement Submitted to OMB for Emergency Review and Approval

July 31, 2003.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 5, 2003. If you anticipate that you will be submitting comments, but find it difficult to do so within the period of time allowed by this notice, you should advise the contacts listed below as soon as possible.

ADDRESSES: Direct all PRA comments to Kim A. Johnson, Office of Management and Budget, Room 10236 NEOB, Washington, DC 20503, (202) 395-7232, or via fax at 202-395-5167 or via internet at Kim_A._Johnson@omb.eop.gov, and Judith B. Herman, Federal Communications Commission, Room 1-C804, 445 12th Street, SW., Washington, DC 20554 or via internet to Judith-B.Herman@fcc.gov.

FOR FURTHER INFORMATION CONTACT: For additional information or copies of the information collections contact Judith B. Herman at 202-418-0214 or via internet at Judith-B.Herman@fcc.gov.

SUPPLEMENTARY INFORMATION: The Commission has requested emergency OMB review of this revised information collection with an approval by August 15, 2003.

OMB Control Number: 3060-0853.

Title: Receipt of Service Confirmation Form; Adjust of Funding Commitment; and Certification by Administrative Authority to Billed Entity of Compliance with Children's Internet Protection Act—Universal Service for Schools and Libraries.

Form No.: FCC Forms 479, 486, and 500.

Type of Review: Revision of a currently approved collection.

Respondents: Business or other for-profit and not-for-profit institutions.

Number of Respondents: 40,000.

Estimated Time Per Response: 1.5 hours per form.

Frequency of Response: Annual reporting requirements and third party disclosure requirement.

Total Annual Burden: 75,000 hours.

Total Annual Cost: N/A.

Needs and Uses: Following a district court decision that portions of the Children's Internet Protection Act (CIPA) were unconstitutional, the Commission modified FCC Forms 479 and 486 to remove certain language from the certifications for libraries (language requiring compliance with the parts of CIPA the district court found unconstitutional). The Supreme Court reversed the district court decision and the Commission must revise the forms to enable libraries to certify their compliance with CIPA. Specifically, the Commission will make a few small changes to the forms in item 6.b and 11 of the Form 486 and Item 6 of the FCC 479 (FCC Form 500 remains unchanged). Additionally, the Commission is requesting contact information to conform with the contact information requested in other Schools and Libraries Universal Service forms.

Federal Communications Commission.
Marlene H. Dortch,
Secretary.

[FR Doc. 03-19991 Filed 8-5-03; 8:45 am]

BILLING CODE 6712-01-P